DEPARTMENT OF THE INTERIOR

Bureau of Ocean Energy Management

[OMB Control Number 1010-0191; Docket ID: BOEM-2017-0016]

Agency Information Collection Activities; Negotiated Noncompetitive Agreement for the Use of Sand, Gravel and Shell Resources on the Outer Continental Shelf

AGENCY: Bureau of Ocean Energy Management, Interior.

ACTION: Notice of information collection; request for comment.

SUMMARY: In accordance with the Paperwork Reduction Act of 1995, the Bureau of Ocean Energy Management (BOEM) is proposing to renew an information collection request.

DATES: Interested persons are invited to submit comments on or before November 27, 2020.

ADDRESSES: Written comments and recommendations for the proposed information collection should be sent to the Office of Management and Budget's Desk Officer for the Department of the Interior within 30 days of publication of this notice to www.reginfo.gov/public/do/PRAMain. Find this information collection by selecting “Currently under 30-day Review—Open for Public Comments” or by using the search function. Please provide a copy of your comments to the BOEM Information Collection Clearance Officer, Anna Atkinson, Bureau of Ocean Energy Management, 45600 Woodland Road, Sterling, Virginia, 20166; or by email to anna.atkinson@boem.gov. Please reference Office of Management and Budget (OMB) Control Number 1010-0191 in the subject line of your comments.

FOR FURTHER INFORMATION CONTACT: To request additional information about this Information Collection Request (ICR), contact Anna Atkinson by email, or by telephone at 703-787-1025. You may also view the ICR at http://www.reginfo.gov/public/do/PRAMain.

SUPPLEMENTARY INFORMATION: In accordance with the Paperwork Reduction Act of 1995, BOEM provides the general public and other Federal agencies with an opportunity to comment on new, proposed, revised, and continuing collections of information. This helps BOEM assess the impact of the information collection requirements and minimize the public's reporting burden. It also helps the public understand BOEM's information collection requirements and provide the requested data in the desired format.

Abstract: In 2017, BOEM published a final rule that created part 583 in Title 30 of the Code of Federal Regulations to address the use of Outer Continental Shelf (OCS) sand, gravel and shell resources for shore protection, beach restoration, or coastal wetlands restoration projects by Federal, State or local government agencies, or for use in construction projects authorized by, or funded in whole or in part, by the Federal Government.

The OCS Lands Act, 43 U.S.C. 1331 et seq. as amended, authorizes the Secretary of the Interior to prescribe rules and regulations to administer leasing of mineral resources on the OCS other than oil, gas and sulphur. Section 1337(k)(1) authorizes the Secretary “. . . to grant to the qualified persons offering the highest cash bonuses on a basis of competitive bidding leases of any mineral other than oil, gas, and sulphur in any area of the [O]uter Continental Shelf not then under lease for such mineral upon such royalty, rental, and other terms and conditions as the Secretary may prescribe at the time of offering the area for lease.” An amendment to the OCS Lands Act adding a paragraph (2) to section 8(k) authorizes the Secretary to negotiate agreements (in lieu of the previously required competitive bidding process) for the use of OCS sand, gravel, and shell resources for certain specified types of public uses. The specified uses will support construction of governmental projects for beach nourishment, shore protection, and wetlands enhancement, or any such project authorized by the Federal Government.

Under the authority delegated by the Secretary of the Interior, BOEM is authorized, pursuant to section 1337(k)(2) of the OCS Lands Act, to convey rights to OCS sand, gravel, and shell resources by negotiated noncompetitive agreement for use in shore protection and beach and coastal restoration, or for use in construction projects funded in whole or part by, or authorized by, the Federal Government.

Title of Collection: 30 CFR 583, Negotiated Noncompetitive Agreement for Use of Sand, Gravel and Shell Resources on the Outer Continental Shelf.

Form Number: None.

Type of Review: Extension of a currently approved collection.

Respondents/Affected Public: Potential respondents include Federal, State, or local governments.

Total Estimated Number of Annual Responses: 45 responses.

Total Estimated Number of Annual Burden Hours: 299 hours.

Respondent's Obligation: Required to retain or obtain a benefit.

Frequency of Collection: On occasion.

Total Estimated Annual Non-hour Burden Cost: No non-hour paperwork cost burden.

Estimated Reporting and Recordkeeping Hour Burden: We estimate that the annual reporting burden for this collection is 299 hours, which would be an increase of 56 annual burden hours from the OMB-approved burden hours. This increase is due to changes in estimated hour burdens and number of responses related to 30 CFR 583, subpart C, since the publication of the regulations in 2017. The hour burden estimates would be revised to more accurately estimate the number of state and local governments requesting negotiated noncompetitive agreements from BOEM. In addition, BOEM has reviewed the hour burdens for requested information under this subpart, and the increase would better reflect the hours it takes for respondents to collect and submit the information.

A Federal Register notice with a 60-day public comment period soliciting comments on this proposed information collection request was published on July 14, 2020 (85 FR 42428). BOEM received one comment from a private citizen during the 60-day comment period. This citizen suggested publishing information on the web about how sand resources are used and by whom. BOEM posts information on the Marine Mineral Program at boem.gov/marine-minerals. This site provides information on the National Offshore Sand Inventory, requests and active leases, state marine mineral projects, research and studies, and other related information.

BOEM is again soliciting comments on the proposed ICR that is described above. BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to the Office of Management and Budget (OMB) for approval of this ICR. You should be aware that your entire comment—including your address, phone number, email address, or other personally identifying information—may be made publicly available at any time. In order for BOEM to withhold from disclosure your personally identifiable information, you must identify any information contained in the submittal of your comments that, if released, would clearly constitute an unwarranted invasion of your personal privacy. You must also briefly describe any possible harmful consequences of the disclosure of your information, such as embarrassment, injury, or other harm. While you can ask BOEM in your comment to withhold your personally identifiable information from public review, BOEM cannot guarantee that it will be able to do so.

BOEM protects proprietary information in accordance with the Freedom of Information Act (FOIA, 5 U.S.C. 552), and the Department of the Interior's FOIA implementing regulations (43 CFR part 2).

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2020-23851 Filed 10-27-20; 8:45 am]

BILLING CODE 4310-MR-P